DEPARTMENT OF DEFENSE

Department of the Air Force

Notice of Intent To Prepare an Environmental Impact Statement for Department of the Air Force Infrastructure Upgrades at Andersen Air Force Base, Guam

AGENCY: Department of the Air Force, Department of Defense.

ACTION: Notice of intent.

SUMMARY: The Department of the Air Force (DAF) and the U.S. Navy, acting as a Cooperating Agency, are issuing this Notice of Intent to prepare an Environmental Impact Statement (EIS) to assess the potential social, economic, and environmental impacts associated with proposed Infrastructure Upgrades at Andersen Air Force Base (AFB), Guam. The EIS will analyze the potential impacts of constructing proposed infrastructure upgrades at Andersen AFB and using this infrastructure consistent with existing installation operations once construction is completed.

DATES: A public scoping period of 30 days will take place starting from the date of this NOI publication in the Federal Register. Comments will be accepted at any time during the environmental impact analysis process; however, to ensure the DAF has sufficient time to consider public scoping comments during preparation of the Draft EIS, please submit comments within the 30-day scoping period. The Draft EIS is anticipated in late 2021 or early 2022. The Final EIS and a decision on the Proposed Action are expected in mid to late 2022.

ADDRESSES: For EIS inquires or requests for printed or digital copies of scoping materials please contact Mr. Michael Noah, phone: (830) 358-6798. The project website (www.AAFBInfrastructureEIS.com) provides additional information on the EIS and can be used to submit scoping comments. Scoping comments may also be submitted via email to AAFBInfrastructure.EIS@us.af.mil, or via postal mail to 36th Civil Engineer Squadron, ATTN: CEV (AAFB Infrastructure EIS), Unit 14007, APO, AP 96543-4007. Please submit inquiries or requests for printed or digital copies of the scoping materials via the email or postal address above. For printed material requests, the standard U.S. Postal Service shipping timeline will apply. Please consider the environment before requesting printed material.

SUPPLEMENTARY INFORMATION: The DAF intends to prepare an EIS which will evaluate the potential impacts associated with the proposed construction of infrastructure upgrades at Andersen AFB, Guam, and to then use this infrastructure consistent with existing installation operations once construction is completed. The purpose of this Proposed Action is to enhance Andersen AFB's capability to support permanent and rotational forces within the Indo-Pacific and strengthen the U.S.'s ability to respond regionally and worldwide, in alignment with evolving DAF and Department of Defense initiatives for the region. To enhance Andersen AFB's capability to support permanent and rotational forces, the Air Force needs to upgrade mission-related infrastructure. These upgrades include providing additional capability for parking, storing, maintaining, refueling, loading, and unloading aircraft at the airfield as well as for storing munitions. The DAF is the National Environmental Policy Act (NEPA) lead agency, and the U.S. Navy is a cooperating agency for this EIS process.

Under this proposal, the DAF is considering new infrastructure upgrades adjacent to the northwest corner of the airfield and within the munitions storage area at Andersen AFB. Construction would take place over approximately 7 years and would include airfield pavements, an aircraft hangar, maintenance and utilities buildings, fuel systems, fencing and utilities, roadways and parking, storm water management infrastructure, and earth covered magazines. Approximately 204 total acres would be disturbed during construction, which would be either developed sites or maintained vegetation once construction is complete. The infrastructure would accommodate aircraft types and flight operations that have been addressed under previously prepared National Environmental Policy Act documentation for Andersen AFB, such as bombers, tankers, and fighters. The DAF considered other locations on Andersen AFB for construction of infrastructure upgrades; however, only the Proposed Action locations were determined to meet the criteria for the infrastructure upgrades. The No Action Alternative will be addressed in the EIS as well.

Additional review and consultation which will be incorporated into the preparation of the Draft EIS will include, but are not necessarily limited to, consultation under Section 7 of the Endangered Species Act and consultation under Section 106 of the National Historic Preservation Act. The DAF will conduct cultural and natural resources surveys in the areas proposed for upgrades and consult with appropriate resource agencies to determine the potential for significant impacts on those resources. During construction, the DAF anticipates an increased demand on the construction workforce and an increase in local spending. Currently, no other short- or long-term notable impacts are anticipated. Additional analysis will be provided in the Draft EIS.

Scoping and Agency Coordination: To effectively define the full range of issues to be evaluated in the EIS, the Air Force will determine the scope of the analysis by soliciting comments from interested local, territorial, and federal elected officials and agencies, as well as interested members of the public and others. Comments are requested on potential alternatives and impacts, and identification of any relevant information, studies, or analyses of any kind concerning impacts affecting the quality of the human environment. Concurrent with the publication of this notice of intent, public scoping notices will be announced locally. In response to the coronavirus (COVID-19) pandemic in the United States and the Center for Disease Control's recommendations for social distancing and avoiding large public gatherings, the DAF will not hold in-person public scoping meetings. Public scoping will instead be accomplished remotely, in accordance with the 2020 version of 40 CFR1506.6, via the project website at www.AAFBInfrastructureEIS.com. The website provides posters, a presentation, an informational brochure, in English and Chamorro, other meeting materials, and the capability for the public to provide public scoping comments. Scoping materials are also available in print at the Nieves M. Flores Memorial Library (254 Martyr Street, Hagåtña, Guam).

Adriane Paris,
Acting Air Force Federal Register Liaison Officer.

[FR Doc. 2021-08054 Filed 4-19-21; 8:45 am]

BILLING CODE 5001-10-P